DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Great Smoky Mountain Railroad

[Waiver Petition Docket Number FRA-2008-0096]

The Great Smoky Mountain Railroad (GSM) has petitioned FRA to grant a waiver of compliance of the Safety Glazing Standards, 49 CFR 223.13, Requirements for Existing Cabooses. Specifically, this waiver request is for three (3) cabooses, GSM 01490, GSM 637 and X782. The noted cabooses are normally used for captive tourist service. On occasion, they are used for freight service to interchange with the Norfolk Southern Railroad within yard limits over 10 miles of the 53 miles of total track to comply with 49 CFR 232.407, Operations Requiring Use of a Two Way End of Train Device.

The 3 cabooses operate over a combination of class 1 and class 2 track at a speed not exceeding 20 miles per hour. The total trackage is 53 miles. The 3 noted cabooses are presently equipped with a mixture of safety glass and Lexan (polycarbonate thermoplastic). GSM has been in business for over 20 years, and to this date, there has been no record of any accident/incident and/or injury to any railroad employee that involved glazing. The cost to replace the present glazing would be cost prohibitive, and the estimated cost would be approximately $3,270 plus labor.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0096) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on September 24, 2008.
Grady C. Cothen, Jr.,
Deputy Associate Administrator for Safety Standards and Program Development.

[FR Doc. E8-22904 Filed 9-29-08; 8:45 am]

BILLING CODE 4910-06-P